DEPARTMENT OF TRANSPORTATION

Surface Transportation Board

[STB Finance Docket No. 34555)

City of Tacoma, Department of Public Utilities, Beltline Division, d/b/a Tacoma Rail or Tacoma Municipal Beltline or TMBL—Acquisition and Operation Exemption—Lakeview Subdivision, Quadlok-St. Clair and Belmore-Olympia Rail Lines in Pierce and Thurston Counties, WA

The City of Tacoma, Department of Public Utilities, Beltline Division, d/b/a Tacoma Rail or Tacoma Municipal Beltline or TMBL (TMBL), a Class III rail carrier, has filed a verified notice of exemption under 49 CFR 1150.41 to acquire and operate approximately 28 miles of rail line, and to obtain approximately 22 miles of incidental trackage rights, in Pierce and Thurston Counties, WA. Specifically, TMBL intends: (1) To acquire a freight service easement from The Burlington Northern and Santa Fe Railway Company (BNSF) from milepost 2.15 at South Tacoma to milepost 8.92 at Lakeview Junction, and from milepost 0.0 at West Lakeview to milepost 10.98 at Nisqually, a total distance of 17.75 miles in Pierce County; (2) to lease BNSF's right-of-way from milepost 3.27 at Quadlok to milepost 0.0 at St. Clair, and from milepost 16.0 at Belmore to milepost 9.07 at Olympia, a total distance of 10.2 miles in Thurston County; and (3) to obtain incidental trackage rights from BNSF from milepost 23.0 at Nisqually to milepost 37.00 at East Olympia, and to be assigned incidental trackage rights from BNSF over Union Pacific Railroad Company's rail line from milepost 0.0 at East Olympia to milepost 9.07 at Olympia. ¹

¹ According to TMBL, an agreement has been reached between BNSF, as seller and lessor of the real estate and grantor of incidental trackage rights, and TMBL, as buyer and lessee of the real estate and grantee of incidental trackage rights.

Because TMBL's projected annual revenues will exceed $5 million, it certified to the Board on September 17, 2004, that it sent the required notice of the transaction on July 29, 2004, to the national offices of all labor unions representing employees on the line and that a copy of the notice was posted at the workplace of the employees on the affected lines on July 30, 2004. ²

² Inasmuch as TMBL did not certify to the Board compliance with 49 CFR 1150.42(e) 60 days prior to its intended consummation of the transaction, it sought waiver of the 60-day certification requirement. The Board denied that request in a decision served on September 27, 2004. As a consequence, this exemption is not scheduled to become effective until November 16, 2004, and the parties cannot consummate this transaction until that date.

The transaction is scheduled to be consummated on or after November 16, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34555, must be filed with the Surface Transportation Board, 1925 K Street NW., Washington, DC 20423-0001. In addition, a copy of each pleading must be served on: Jeffrey O. Moreno, 1920 N Street, NW., Suite 800, Washington, DC 20036, and Anne L. Spangler, 3628 South 35th Street, Tacoma, WA 98409-3115.

Board decisions and notices are available on our Web site at http://www.stb.dot.gov.

Decided: October 8, 2004.
By the Board, David M. Konschnik, Director, Office of Proceedings.
Vernon A. Williams,
Secretary.

[FR Doc. 04-23138 Filed 10-18-04; 8:45 am]

BILLING CODE 4915-01-P